INTERNATIONAL TRADE COMMISSION

[Investigation No. 337-TA-900]

Certain Navigation Products, Including GPS Devices, Navigation and Display Systems, Radar Systems, Navigational Aids, Mapping Systems and Related Software Commission Determination Not to Review an Initial Determination Granting an Unopposed Motion to Terminate the Investigation as to the Remaining Respondents; Termination of Investigation

AGENCY: U.S. International Trade Commission.

ACTION: Notice.

SUMMARY: Notice is hereby given that the U.S. International Trade Commission has determined not to review the presiding administrative law judge's (“ALJ”) initial determination (“ID”) (Order No. 27) granting an unopposed motion to terminate the investigation in its entirety as to remaining respondents Raymarine UK Ltd. of Fareham, United Kingdom and Raymarine, Inc. of Nashua, New Hampshire (collectively, “Raymarine”) based upon settlement.

FOR FURTHER INFORMATION CONTACT: Panyin A Hughes, Office of the General Counsel, U.S. International Trade Commission, 500 E Street SW., Washington, DC 20436, telephone 202-205-3042. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted Inv. No. 337-TA-900 on November 15, 2013, based on a complaint filed by Furuno Electric Co., Ltd. of Hyogo, Japan and Furuno U.S.A., Inc. of Camas, Washington (“Furuno”). 78 FR 68861-62 (Nov. 15, 2013). The complaint alleged violations of section 337 of the Tariff Act of 1930, as amended, (19 U.S.C. 1337) in the importation into the United States, the sale for importation, and the sale within the United States after importation of certain navigation products, including GPS devices, navigation and display systems, radar systems, navigational aids, mapping systems and related software by reason of infringement of various claims of United States Patent Nos. 6,084,565; 7,161,561; 6,424,292; and 7,768,447. The notice of investigation named the following respondents: Garmin Ltd. of Schaffhausen, Switzerland; Garmin International, Inc.; Garmin North America, Inc.; Garmin USA, Inc. all of Olathe, Kansas (collectively, “Garmin”); Navico Holding AS of Egersund, Norway; Navico UK Limited of Romsey Hampshire, United Kingdom; Navico Inc. of Tulsa, Oklahoma (collectively, “Navico”); and Raymarine. The Office of Unfair Import Investigations is a party to the investigation.

On April 8, 2014, the ALJ issued an ID (Order No 14), terminating the investigation as to Navico based upon settlement. On June 30, 2014, the ALJ issued an ID (Order No 23), terminating the investigation as to Garmin based upon settlement. The Commission determined not to review those IDs.

On August 13, 2014, Furuno and Raymarine filed a joint unopposed motion to terminate the investigation as to Raymarine based upon settlement. On August 19, 2014, the Commission investigative attorney filed a response in support of the motion.

On August 21, 2014, the ALJ issued the subject ID, granting the motion to terminate the investigation as to Raymarine. The ALJ found that confidential and public copies of the settlement agreement were provided in compliance with the requirements of Commission Rule 210.21(b)(1) (19 CFR 210.21(b)(1)), and that terminating the investigation would not be contrary to the public interest.

The Commission has determined not to review the ID. This terminates the investigation in its entirety.

The authority for the Commission's determination is contained in section 337 of the Tariff Act of 1930, as amended (19 U.S.C. 1337), and in Part 210 of the Commission's Rules of Practice and Procedure (19 CFR Part 210).

By order of the Commission.
Issued: September 22, 2014.
Lisa R. Barton,
Secretary to the Commission.

[FR Doc. 2014-22901 Filed 9-25-14; 8:45 am]

BILLING CODE 7020-02-P